FEDERAL RESERVE SYSTEM

Change in Bank Control Notices; Acquisitions of Shares of a Savings and Loan Holding Company

The notificants listed below have applied under the Change in Bank Control Act (12 U.S.C. 1817(j)) and the Board's Regulation LL (12 CFR Part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 28, 2012.

A. Federal Reserve Bank of Kansas City (Dennis Denney, Assistant Vice President) 1 Memorial Drive, Kansas City, Missouri 64198-0001:

1. Ellen Records Morgan, Oklahoma City, Oklahoma; as co-trustee of the Martha E. Records 2009 GST Exempt Family Trust; the Martha E. Records 2009 Non-Exempt Family Trust; the Kathryn R. Ryan 2007 GST Exempt Family Trust; and the Kathryn R. Ryan 2007 Non-Exempt Family Trust, all of Oklahoma City, Oklahoma, to acquire voting shares of Midland Financial Co., and thereby indirectly acquire voting shares of MidFirst Bank, both in Oklahoma City, Oklahoma.

Board of Governors of the Federal Reserve System, December 10, 2012.
Margaret McCloskey Shanks,
Deputy Secretary of the Board.

[FR Doc. 2012-30074 Filed 12-12-12; 8:45 am]

BILLING CODE 6210-01-P